DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of August 28, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Washington County, Mississippi and Incorporated Areas
Docket No.: FEMA-B-2252
City of Greenville | City Hall, 340 Main Street, Greenville, MS 38701.
Unincorporated Areas of Washington County | Washington County Planning Department, 900 Washington Avenue, Greenville, MS 38701.
Stone County, Missouri and Incorporated Areas
Docket No.: FEMA-B-2031, FEMA-B-2179, FEMA-B-2340
City of Branson West | City Hall, 110 Silver Lady Lane, Branson West, MO 65737.
City of Crane | City Hall, 120 North Commerce Street, Crane, MO 65633.
City of Galena | City Hall, 113 East 4th Street, Galena, MO 65656.
City of Hurley | City Hall, 202 South Walnut Street, Hurley, MO 65675.
City of Kimberling City | City Hall, 34 Kimberling Boulevard, Kimberling City, MO 65686.
City of Reeds Spring | City Hall, 22597 Main Street, Reeds Spring, MO 65737.
Unincorporated Areas of Stone County | Stone County Courthouse, 108 East 4th Street, Galena, MO 65656.
Village of Blue Eye | Stone County Courthouse, 108 East 4th Street, Galena, MO 65656.
Village of Coney Island | Stone County Courthouse, 108 East 4th Street, Galena, MO 65656.
Village of Indian Point | Indian Point Government Office, 957 Indian Point Road, Branson, MO 65616.
Village of McCord Bend | Stone County Courthouse, 108 East 4th Street, Galena, MO 65656.
Stark County, North Dakota and Incorporated Areas
Docket No.: FEMA-B-2037 and FEMA-B-2273
City of Dickinson | City Hall, 38 1st Street W, Dickinson, ND 58601.
City of Gladstone | City Hall, 183 5th Avenue, Gladstone, ND 58630.
City of Richardton | City Hall, 111 North Avenue W, Richardton, ND 58652.
City of South Heart | City Hall, 209 4th Street NW, South Heart, ND 58655.
City of Taylor | City Hall, 30 Ertel Avenue, Taylor, ND 58656.
Unincorporated Areas of Stark County | Stark County Courthouse, 51 3rd Street E, Dickinson, ND 58601.
Sanborn County, South Dakota and Incorporated Areas
Docket No.: FEMA-B-2322
City of Woonsocket | Sanborn County Courthouse, 604 West 6th Street, Woonsocket, SD 57385.
Town of Artesian | Community Center, 209 South 2nd Street, Artesian, SD 57314.
Unincorporated Areas of Sanborn County | Sanborn County Courthouse, 604 West 6th Street, Woonsocket, SD 57385.
Kewaunee County, Wisconsin and Incorporated Areas
Docket No.: FEMA-B-2318
City of Algoma | City Hall, 416 Fremont Street, Algoma, WI 54201.
City of Kewaunee | City Hall, 401 5th Street, Kewaunee, WI 54216.
Unincorporated Areas of Kewaunee County | Kewaunee County Emergency Management Department, 625 3rd Street, Luxemburg, WI 54217.
Village of Casco | Village Hall, 211 1st Street, Casco, WI 54205.
Village of Luxemburg | Village Office, 206 Maple Street, Luxemburg, WI 54217.
Sheboygan County, Wisconsin and Incorporated Areas
Docket No.: FEMA-B-2305
City of Sheboygan | City Hall, 828 Center Avenue, Sheboygan, WI 53081.
Unincorporated Areas of Sheboygan County | Administration Building, 508 New York Avenue, Sheboygan, WI 53081.
Village of Cascade | Village Hall, 301 1st Street, Cascade, WI 53011.
Village of Random Lake | Village Hall, 96 Russell Drive, Random Lake, WI 53075.

[FR Doc. 2024-08521 Filed 4-19-24; 8:45 am]

BILLING CODE 9110-12-P